DEPARTMENT OF ENERGY

Federal Energy Regulatory Commission

[Docket No. GT02-6-000]

Dominion Transmission, Inc.; Notice of Report of Refunds

November 15, 2001.

Take notice that on November 6, 2001, Dominion Transmission, Inc. (DTI) tendered for filing a report of refunds that DTI flowed through to its customers.

DTI states that the purpose of this filing is to report the refunds that resulted from Columbia Gulf Transmission Company's (Columbia Gulf's) settlement in Docket No. RP91-160, which required Columbia Gulf to refund environmental costs reimbursed by its insurance carriers. DTI states that the refunds were allocated based on DTI's customers' fixed cost responsibility as set out on Sheet No. 38 of DTI's FERC Gas Tariff.

DTI states that copies of its filing are being sent by first-class mail, postage prepaid, by DTI to DTI's affected customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before November 23, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29076 Filed 11-20-01; 8:45 am]

BILLING CODE 6717-01-P